DEPARTMENT OF THE TREASURY

Office of the Comptroller of the Currency

Agency Information Collection Activities: Proposed Information Collection; Comment Request

AGENCY: Office of Thrift Supervision (OTS), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid OMB control number. The OCC is soliciting comment concerning its information collection titled “Capital Distribution.”

DATES: Comments must be received by October 24, 2011.

ADDRESSES: Communications Division, Office of the Comptroller of the Currency, Public Information Room, Mailstop 2-3, Attention: 1557-NEW, 250 E Street, SW., Washington, DC 20219. In addition, comments may be sent by fax to (202) 874-5274, or by electronic mail to regs.comments@occ.treas.gov. You can inspect and photocopy the comments at the OCC, 250 E Street, SW., Washington, DC 20219. You can make an appointment to inspect the comments by calling (202) 874-4700.

Additionally, you should send a copy of your comments to OCC Desk Officer, 1557-NEW, by mail to U.S. Office of Management and Budget, 725 17th Street, NW., #10235, Washington, DC 20503, or by fax to (202) 395-6974.

FOR FURTHER INFORMATION CONTACT: You can request additional information or a copy of the collection from Ira L. Mills, (202) 874-6055, or Mary H. Gottlieb, (202) 874-4824, OCC Clearance Officers, Legislative and Regulatory Activities Division, Office of the Comptroller of the Currency, 250 E Street, SW., Washington, DC 20219.

SUPPLEMENTARY INFORMATION: The OCC is requesting OMB approval of the following information collection, which was previously approved under the Office of Thrift Supervision's OMB Control No. 1550-0059. Title III of The Dodd-Frank Wall Street Reform and Consumer Protection Act, Public Law 111-203, 124 Stat. 1376 (2010) (Dodd-Frank Act) transferred the powers, authorities, rights and duties of the Office of Thrift Supervision (OTS) to other banking agencies, including the OCC. In addition, Dodd-Frank requires the Board of Governors of the Federal Reserve System (Board) to promulgate regulations governing capital distributions. OTS Control No. 1550-0059 was, therefore, transferred to the FRB under OMB Control No. 7100-0339. This information collection replaces, and is identical to, the collection transferred to the FRB.

Comments are solicited on:

a. Whether the proposed collection of information is necessary for the proper performance of the functions of the OCC;

b. The accuracy of OCC's estimate of the burden of the proposed information collection;

c. Ways to enhance the quality, utility, and clarity of the information to be collected;

d. Ways to minimize the burden of the information collection on respondents, including through the use of information technology.

We will summarize the comments that we receive and include them in our request for OMB approval. All comments will become a matter of public record.

Title of Collection: Capital Distribution.

OMB Control Number: To be assigned by OMB.

Form Number: 1583.

Description: Under 12 CFR 163.143, the OCC will review the information to determine whether the request of savings associations is in accordance with existing statutory and regulatory criteria. In addition, the information provides the OCC with a mechanism for monitoring capital distributions since these distributions can reduce an association's capital and perhaps places it at risk.

Type of Review: New collection.

Affected Public: Businesses or other for-profit.

Estimated Number of Respondents: 366.

Estimated Frequency of Response: On occasion.

Estimated Total Burden: 657 hours.

Dated: August 17, 2011.
Michele Meyer,
Assistant Director, Legislative and Regulatory Activities Division.

[FR Doc. 2011-21517 Filed 8-22-11; 8:45 am]

BILLING CODE 4810-33-P